DEPARTMENT OF COMMERCE

International Trade Administration

[A-533-820; A-560-812; A-570-865; A-583-835; A-549-817; A-823-811]

Certain Hot-Rolled Carbon Steel Flat Products from India, Indonesia, the People's Republic of China, Taiwan, Thailand, and Ukraine: Final Results of Expedited Fourth Sunset Reviews of the Antidumping Duty Orders

AGENCY: Enforcement and Compliance, International Trade Administration, Department of Commerce.

SUMMARY: As a result of these expedited sunset reviews, the U.S. Department of Commerce (Commerce) finds that revocation of the antidumping duty orders on certain hot-rolled carbon steel flat products from India, Indonesia, the People's Republic of China (China), Taiwan, Thailand, and Ukraine would be likely to lead to continuation or recurrence of dumping. The magnitude of the dumping margins likely to prevail are indicated in the “Final Results of Sunset Review” section of this notice.

DATES: Applicable November 12, 2024.

FOR FURTHER INFORMATION CONTACT: Yang Jin Chun, AD/CVD Operations, Office I, Enforcement and Compliance, International Trade Administration, U.S. Department of Commerce, 1401 Constitution Avenue NW, Washington, DC 20230; telephone (202) 482-5760.

SUPPLEMENTARY INFORMATION:

Background

In 2001, Commerce published in the Federal Register the orders with respect to certain hot-rolled carbon steel flat products from India, Indonesia, China, Taiwan, Thailand, and Ukraine.¹ On July 1, 2024, Commerce published the notice of initiation of the fourth sunset reviews of the Orders on certain hot-rolled carbon steel flat products from India, Indonesia, China, Taiwan, Thailand, and Ukraine, in accordance with section 751(c) of the Tariff Act of 1930, as amended (the Act).²

¹ See Notice of Amended Final Antidumping Duty Determination of Sales at Less Than Fair Value and Antidumping Duty Order: Certain Hot-Rolled Carbon Steel Flat Products from India, 66 FR 60194 (December 3, 2001); Antidumping Duty Order: Certain Hot-Rolled Carbon Steel Flat Products from Indonesia, 66 FR 60192 (December 3, 2001); Notice of Antidumping Duty Order: Certain Hot Rolled Carbon Steel Flat Products from the People's Republic of China, 66 FR 59561 (November 29, 2001); Notice of Antidumping Duty Order; Certain Hot-Rolled Carbon Steel Flat Products from Taiwan, 66 FR 59563 (November 29, 2001); Antidumping Duty Order: Certain Hot-Rolled Carbon Steel Flat Products from Thailand, 66 FR 59562 (November 29, 2001); and Antidumping Duty Order: Certain Hot-Rolled Carbon Steel Flat Products from Ukraine, 66 FR 59559 (November 29, 2001) (collectively, Orders).

² See Initiation of Five-Year (Sunset) Reviews, 89 FR 54435 (July 1, 2024) (Initiation Notice).

On July 15, 2024, Commerce received notices of intent to participate in these sunset reviews from Nucor Corporation; Cleveland-Cliffs Inc; United States Steel Corporation; SSAB Enterprises LLC; and Steel Dynamics, Inc. (collectively, the domestic interested parties) within the deadline specified in 19 CFR 351.218(d)(1)(i).³ The domestic interested parties claimed interested party status under section 771(9)(C) of the Act, as manufacturers, producers, or wholesalers of a domestic like product in the United States. On July 31, 2024, Commerce received complete substantive responses to the Initiation Notice from the domestic interested parties within the 30-day deadline specified in 19 CFR 351.218(d)(3)(i).⁴ Commerce received no substantive responses from respondent interested parties. As a result, Commerce conducted the expedited (120-day) sunset reviews of these Orders in accordance with section 751(c)(3)(B) of the Act and 19 CFR 351.218(e)(1)(ii)(C)(2). On July 22, 2024, Commerce tolled certain deadlines in this administrative proceeding by seven days.⁵ The current deadline for these final results of sunset reviews is November 5, 2024.

³ See Cleveland-Cliffs Inc.'s Letter, “Notice of Intent to Participate in Sunset Reviews,” dated July 15, 2024, Nucor Corporation's Letter, “Notice of Intent to Participate in Sunset Reviews,” dated July 15, 2024, United States Steel Corporation's Letter, “Notice of Intent to Participate,” dated July 16, 2024, and SSAB Enterprises LLC; and Steel Dynamics, Inc.'s Letter, “Notice of Intent to Participate,” dated July 16, 2024.

⁴ See Domestic Interested Parties' Letters, “Substantive Response” dated July 31, 2024.

⁵ See Memorandum, “Tolling of Deadlines for Antidumping and Countervailing Duty Proceedings,” dated July 22, 2024.

Scope of the Orders

The merchandise subject to the Orders is certain hot-rolled carbon steel flat products. For a complete description of the products covered, see the Issues and Decision Memorandum.⁶

⁶ See Memorandum, “Issues and Decision Memorandum for the Final Results of Expedited Fourth Sunset Reviews of the Antidumping Duty Orders on Certain Hot-Rolled Carbon Steel Flat Products from India, Indonesia, the People's Republic of China, Taiwan, Thailand, and Ukraine,” dated concurrently with and hereby adopted by this notice.

Analysis of Comments Received

All issues raised in these sunset reviews, including the likelihood of continuation or recurrence of dumping in the event of revocation of the Orders and the magnitude of the margins of dumping likely to prevail if the Orders were to be revoked, are addressed in the accompanying Issues and Decision Memorandum. A list of the topics discussed in the Issues and Decision Memorandum is included in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of Sunset Reviews

Pursuant to sections 751(c)(1) and 752(c)(1) and (3) of the Act, Commerce determines that revocation of the Orders would likely lead to continuation or recurrence of dumping. We determine that the magnitude of the dumping margins likely to prevail are up to the following percents:

Country | Weighted-average dumping margin (percent)
India | 44.40
Indonesia | 47.86
China | 90.83
Taiwan | 29.14
Thailand | 20.30
Ukraine | 90.33

Administrative Protective Order

This notice serves as the only reminder to parties subject to the administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

We are issuing and publishing these results and notice in accordance with sections 751(c), 752(c), and 777(i)(1) of the Act and 19 CFR 351.218(e)(1)(ii)(C)(2) and 19 CFR 351.221(c)(5)(ii).

Dated: November 5, 2024.
Abdelali Elouaradia,
Deputy Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Dumping Margins Likely to Prevail

VII. Final Results of Sunset Reviews

VIII. Recommendation

[FR Doc. 2024-26142 Filed 11-8-24; 8:45 am]

BILLING CODE 3510-DS-P